DEPARTMENT OF STATE

[Public Notice: 7720]

Advisory Committee on Historical Diplomatic Documentation; Notice of Meeting

Summary: The Advisory Committee on Historical Diplomatic Documentation will meet on February 27, June 4-5, and December 10-11, 2012, at the Department of State, 2201 “C” Street NW., Washington, DC. The Committee's sessions in the afternoon of Monday, February 27, 2012; in the afternoon of Monday, June 4, 2012; in the morning of Tuesday, June 5, 2012; in the afternoon of Monday, December 10, 2012; and in the morning of Tuesday, December 11, 2012, will be closed in accordance with Section 10(d) of the Federal Advisory Committee Act (Pub. L. 92-463). The agenda calls for discussions of agency declassification decisions concerning the Foreign Relations series and other declassification issues. These are matters properly classified and not subject to public disclosure under 5 U.S.C. 552b(c)(1) and the public interest requires that such activities be withheld from disclosure.

The Committee will meet in open session from 11 a.m. until 12 noon on the following dates: Monday, February 27, 2012, in the Department of State, 2201 “C” Street NW., Washington, DC, in Conference Room 1205; Monday, June 4, 2012, in the Department of State, 2201 “C” Street NW., Washington, DC, in Conference Room 1482; and Monday, December 10, 2012, in the Department of State, 2201 “C” Street NW., Washington, DC, in Conference Room 1205, to discuss declassification and transfer of Department of State records to the National Archives and Records Administration and the status of the Foreign Relations series.

Prior notification and a valid government-issued photo ID (such as driver's license, passport, U.S. government or military ID) are required for entrance into the building. Members of the public planning to attend the meeting on the following dates, please RSVP as follows: for February 27, please notify Colby Prevost, Office of the Historian (202) 663-3529) no later than February 23, 2012; for June 4, please notify Colby Prevost, Office of the Historian (202) 663-3529) no later than May 31, 2012; and for December 10, please notify Colby Prevost, Office of the Historian (202) 663-3529) no later than December 6, 2012. When responding, please provide date of birth, valid government-issued photo identification number and type (such as driver's license number/state, passport number/country, or U.S. government ID number/agency or military ID number/branch), and relevant telephone numbers. If you cannot provide one of the specified forms of ID, please consult with Colby Prevost for acceptable alternative forms of picture identification.

In addition, any requests for reasonable accommodation should be made no later than the following dates: February 21 for the February 27 meeting; May 29 for the June 4-5 meeting; and December 4 for the December 10-11 meeting. Requests for reasonable accommodation received after those dates will be considered, but might be impossible to fulfill.

Personal data is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Privacy Impact Assessment for VACS-D at http://www.state.gov/documents/organization/100305.pdf, for additional information.

Questions concerning the meeting should be directed to Ambassador Edward Brynn, Executive Secretary, Advisory Committee on Historical Diplomatic Documentation, Department of State, Office of the Historian, Washington, DC 20520, telephone (202) 663-1123, (email history@state.gov).

Dated: January 23, 2012.
Edward Brynn,
Ambassador, Executive Secretary, Advisory Committee on Historical, Diplomatic Documentation, Department of State.

[FR Doc. 2012-2351 Filed 2-1-12; 8:45 am]

BILLING CODE 4710-11-P